DEPARTMENT OF THE INTERIOR

National Park Service

36 CFR Parts 1, 2, and 4

[NPS-WASO-38853; GPO Deposit Account 4311H2]

RIN 1024-AE79

Powered Micromobility Devices

AGENCY: National Park Service, Interior.

ACTION: Proposed rule.

SUMMARY: The National Park Service proposes a management framework for the use of powered micromobility devices within the National Park System. The proposed rule would define powered micromobility devices separately from motor vehicles, traditional bicycles, electric bicycles, and human powered coasting devices, and create rules for where and how they may be used in units of the National Park System. Examples of powered micromobility devices include electric scooters (e-scooters), hoverboards, and Segways.

DATES: Comments on the proposed rule must be received by 11:59 p.m. eastern time on March 17, 2025.

ADDRESSES: You may submit comments, identified by Regulation Identifier Number (RIN) 1024-AE79, by either of the following methods:

(1) Electronically: Go to the Federal eRulemaking Portal: https://www.regulations.gov. Follow the instructions for submitting comments.

(2) By hard copy: Mail to: Jay Calhoun, National Park Service, Division of Regulations, Jurisdiction and Special Park Uses, MS-2472, 1849 C Street NW, Washington, DC 20240.

Instructions: Comments will not be accepted by fax, email, or in any way other than those specified above. All submissions received must include the words “National Park Service” or “NPS” and must include the docket number or RIN (1024-AE79) for this rulemaking. Comments received may be posted without change to https://www.regulations.gov, including any personal information provided.

Docket: For access to the docket to read comments received, go to https://www.regulations.gov and search for “1024-AE79”.

FOR FURTHER INFORMATION CONTACT: Jay Calhoun, Division of Regulations, Jurisdiction and Special Park Uses, National Park Service; phone: (202) 513-7112; email: waso_regulations@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the proposal is available on https://www.regulations.gov in the docket for this rulemaking.

SUPPLEMENTARY INFORMATION:

Background

Powered micromobility devices, such as e-scooters, hoverboards and Segways, are appearing on lands administered by the National Park Service (NPS) with greater frequency, especially in urban locations. Units of the National Park System, such as the National Mall and Memorial Parks in Washington, DC, are filled with e-scooters on a daily basis as visitors use them to access, leave, and travel through the park, including on sidewalks and paths that are shared with pedestrians. Other System units with considerable use of e-scooters and other powered micromobility devices include Golden Gate National Recreation Area, San Antonio Missions National Historical Park, Mississippi National River and Recreation Area, and Cape Cod National Seashore. The U.S. Department of Transportation (DOT) Federal Highway Administration provides a fact sheet with an overview on micromobility, along with links to additional resources.¹ U.S. DOT also funds the Pedestrian and Bicycle Information Center (PBIC), which has a website containing a volume of information about active transportation, including micromobility devices. The information in this Background section is a basic overview of powered micromobility devices that is found on the PBIC website. Please visit https://www.pedbikeinfo.org/for more information.

¹ U.S. Department of Transportation, Federal Highway Administration, Fact Sheet on Micromobility.

The U.S. DOT and PBIC classify traditional and electric bicycles as micromobility devices; however, the use of traditional and electric bicycles in units of the National Park System is already governed by regulations in 36 CFR 4.30 and therefore is not addressed in this proposed rule. As used in the Background section of this proposed rule, the term “powered micromobility devices” does not refer to traditional bicycles, nor does it refer to electric bicycles, nor to human powered coasting devices such as roller skates and skateboards, which are governed by NPS regulations at 36 CFR 2.20. It does refer to electric standing or sitting scooters (e-scooters) and devices such as electric skateboards, electric skates, and one-wheeled or two-wheeled electric self-balancing devices (e.g., balance wheels, hoverboards and Segways).

According to the PBIC, powered micromobility devices share three common characteristics.² First, powered micromobility devices are motorized. They can be fully motorized or motor-assisted, in which the rider can provide some human-powered propulsion, such as by kicking. They usually involve a battery-powered electric motor that provides 750 watts of maximum power. Second, powered micromobility devices are operated at low speed. Most powered micromobility devices are designed to travel at or below 20 miles per hour (mph), although some can reach 30 mph.³ Others may be regulated to lower maximum speeds, such as 8 mph or less, to be compatible with sidewalk use. Third, powered micromobility devices are small in size. Most powered micromobility devices are three feet wide or less to fit within the standard width of a bike lane or sidewalk. Most powered micromobility devices weigh less than 50 pounds. Due to their weight and size, most powered micromobility devices are designed to be used by single riders.

² Sandt, L. (October 2019). The basics of micromobility and related motorized

devices for personal transport. Pedestrian and Bicycle Information Center: Chapel Hill, NC.

³ The Society of Automotive Engineers classifies powered micromobility devices as those with a top speed of less than 30 mph. See Taxonomy and Classification of Powered Micromobility Vehicles J3194_201911 issued November 20, 2019.

Users can own or rent powered micromobility devices. Rentals account for the majority of use in urban areas due to the deployment of shared fleets by private companies such as Uber, Lyft, Bird, and Lime. Shared fleets provide users with on-demand access to powered micromobility devices, which operators typically unlock using a smartphone application. Powered micromobility devices that are part of shared fleets are most commonly parked in public rights-of-way, such as sidewalks. In some cases, parking areas or docks may exist for grouping devices when they are not in use. Powered micromobility devices are mostly used in cities and serve a variety of transportation and public health goals. Shared powered micromobility devices provide communities with healthy, affordable, and low- or no-emission transportation options.⁴ Powered micromobility devices can help close first- and last-mile gaps to transit and offer individuals greater access to jobs, health care, and other services.⁵ This may be particularly true for underserved communities.⁶ Powered and adaptive micromobility devices may increase mobility for older adults or individuals with disabilities because they are less strenuous to operate than traditional bicycles or scooters.⁷ San Francisco, Portland, Kansas City, and Washington, DC, expressly align e-scooter use with the goal of reducing carbon emissions and air pollution.⁸ Powered micromobility devices serve the NPS's goal of promoting alternative transportation systems in System units that use modes of travel other than private motor vehicles. Alternative transportation systems can help connect communities to parks, manage congestion and ease parking shortages, improve air quality and soundscapes, and reduce collisions between automobiles and wildlife. Shared powered micromobility devices continue to become more prevalent and popular. The North American Bikeshare and Scootershare Association estimates that 62.2 million trips on e-scooters were taken in North America in 2021.⁹

⁴ U.S. Department of Transportation, Federal Highway Administration, Shared Micromobility and Equity Primer.

⁵ U.S. Department of Transportation, Federal Highway Administration, Fact Sheet on Micromobility.

⁶ Id. See also U.S. Department of Transportation, Federal Highway Administration, Shared Micromobility and Equity Primer.

⁷ U.S. Department of Transportation, Federal Highway Administration, Fact Sheet on Micromobility.

⁸ Blickstein, S. et al. (December 2019). E-Scooter Programs: Current State of Practice in US Cities.

⁹ NABSA 2021 Shared Micromobility State of the Industry Report.

Existing Regulatory Framework

The safety of powered micromobility devices, like other products sold in the United States, is regulated by the Consumer Product Safety Commission (CPSC) under the Consumer Product Safety Act. 15 U.S.C. 2051-2090. The CPSC does not regulate who may use powered micromobility devices and where they may be used.

The NPS has broad authority to regulate activities that occur within units of the National Park System. See 54 U.S.C. 100101 and 100751. NPS regulations addressing the use of motor vehicles, traditional bicycles, and electric bicycles are found in 36 CFR 4.30. Each of these devices is defined separately in 36 CFR 1.4 and has its own regulatory framework in 36 CFR part 4 that is tailored to the characteristics of each device and how they are used. Human powered coasting devices, such as roller skates and skateboards, are governed separately under 36 CFR 2.20. Motor vehicles are defined in 36 CFR 1.4 as “every vehicle that is self-propelled and every vehicle that is propelled by electric power, but not operated on rails or water, except an electric bicycle, a snowmobile, and a motorized wheelchair.” This definition is broad enough to include powered micromobility devices. As a result, powered micromobility devices fall within the NPS's existing regulatory framework for motor vehicles, even though powered micromobility devices are lighter, smaller and used differently in System units. The differences between traditional motor vehicles and powered micromobility devices are numerous, but to highlight one that relates to the potential to cause impacts to resources and visitors in System units, the average weight of an automobile is 4,303 pounds while most powered micromobility devices weigh less than 50 pounds.¹⁰

¹⁰ The 2022 EPA Automotive Trends Report. EPA-420-R-23-033 December 2023.

Due to concerns about impacts to resources and visitors, NPS regulations at 36 CFR 4.10 generally limit motor vehicle use to public roads and parking areas within System units. See 52 FR 10679 (April 2, 1987). The NPS may allow off-road motor vehicle (ORV) use in national recreation areas, national seashores, national lakeshores and national preserves, but only after it completes a notice and comment rulemaking process that designates routes and areas for ORV use in special regulations that apply to the System unit. ORV use is not allowed in national parks or other types of System units (e.g., national monuments) that are managed by the NPS but not identified in 36 CFR 4.10. These regulatory requirements are consistent with the provisions of Executive Orders 11644 and 11989 (“Use of off-road vehicles on the public lands”) that were issued in 1972 and 1977. These Executive orders require Federal agencies to limit ORV use on public lands to designated routes or areas in a manner that protects resources, promotes visitor safety, and minimizes user conflicts. The Executive orders require Federal agencies to issue regulations providing for the designation of the specific areas and trails where ORV use is allowed on public lands. Unlike the NPS's definition of “motor vehicle,” which is not limited to vehicles with off-road capabilities, the Executive orders apply to “off-road vehicles” that are “designed for or capable of cross-country travel on or immediately over land, water, sand, snow, ice, marsh, swampland, or other natural terrain.”

Despite obvious differences in design, capability, and the potential to cause impacts to resources and visitors, current NPS regulations apply to powered micromobility devices and traditional motor vehicles in the same way. This has led to an undesired outcome where (1) NPS transportation goals to promote alternative transportation, protect the climate, and connect diverse communities; ¹¹ (2) visitor expectations; and (3) on-the-ground use of powered micromobility devices are not served by outdated regulations meant to address a different type of visitor use activity within System units. On the one hand, NPS motor vehicle regulations are too limiting with respect to where powered micromobility devices may be used off park roads and parking areas, especially in System units located in or near cities. In these System units, visitors use powered micromobility devices, such as e-scooters and Segways, on paved and gravel sidewalks and paths in a manner that causes impacts to resources and visitors that are much less significant than would be caused by traditional motor vehicles (e.g., cars, trucks and vans) used in the same locations. On the other hand, NPS motor vehicle regulations are too lenient with respect the use of powered micromobility devices on roads and parking areas. The existing regulations allow powered micromobility devices by default on all roads open to public motor vehicle use, many of which are not designed or suited to be shared with faster and heavier traditional motor vehicles. Roads without infrastructure that separates users who are not protected by an enclosed vehicle or safety restraints (such as seatbelts), which includes the vast majority of users of powered micromobility devices, can lead to user conflicts and increase the risk of injury.

¹¹ Current State of Transportation Needs and Priorities, NPS (2021).

One other existing regulatory framework is relevant to the use of shared powered micromobility devices in System units. NPS regulations at 36 CFR 5.3 (“Business operations.”) prohibit anyone from conducting a business in a System unit except in accordance with a permit, contract or other written agreement with the United States. Companies that operate shared fleets of e-scooters (e.g., Uber, Lyft, Bird, Lime) within System units must obtain written authorization to do so under these regulations. The NPS may issue a commercial use authorization (CUA) or a concession contract to these businesses that contain terms and conditions governing how the business may be operated in the System unit. The NPS will continue to manage the operation of these shared fleets as a business through regulations and policies that apply to CUAs and concession contracts, and the terms and conditions of those instruments when they are issued to the CUA-holder or concessioner. This proposed rule would establish rules governing the use a powered micromobility device by the operator in the same way, whether the device is owned by the operator or rented from a company authorized to do business in the System unit.

Proposed Rule

This proposed rule would define powered micromobility devices separately from motor vehicles, bicycles, electric bicycles, and human powered coasting devices. This proposed rule would establish a distinct management framework for where powered micromobility devices are allowed in System units. This framework would provide flexibility to superintendents who believe that powered micromobility devices can be used by visitors and managed by the NPS in certain locations. At the same time, the proposed rule would ensure that powered micromobility devices capable of cross-country travel on or immediately over natural terrain may not be used in that manner without notice and comment rulemaking, consistent with Executive Orders 11644 and 11989.

The proposed rule would define a “powered micromobility device” as a human-operated, self-propelled device with a curb weight of less than 150 pounds and without an internal combustion engine. The definition would state that powered micromobility devices do not include an electric bicycle, motorized wheelchair, snowmobile, vessel, or motor vehicle (as those terms are defined in 36 CFR 1.4), or a non-bicycle coasting device that is solely human powered (as that term would be defined by this proposed rule).

The NPS intends the definition to include devices that are capable of self-propulsion even if they also may be propelled with human power. For example, the NPS intends the definition to include e-scooters that are primarily moved by an electric motor, even if they also may be propelled by kicking.

The proposed definition has a higher maximum weight (150 pounds) than the typical weight for powered micromobility devices (less than 50 pounds) in order to include heavier devices such as Segways and adaptive devices designed for individuals with disabilities. Even though they are heavier than most powered micromobility devices, these devices are typically smaller and slower than traditional motor vehicles and are used similarly to lighter powered micromobility devices. One hundred and fifty pounds is well within range of the definition established by the Society of Automotive Engineers for powered micromobility vehicles, which includes devices weighing up to 500 pounds.¹² If powered micromobility devices above a certain weight would cause unacceptable impacts to resources or visitors, the proposed rule would authorize the superintendent to limit the maximum weight of powered micromobility devices below 150 pounds if necessary.

¹² Society of Automotive Engineers Taxonomy and Classification of Powered Micromobility Vehicles J3194_201911 issued November 20, 2019.

The proposed definition would exclude all devices with an internal combustion engine. In practice, most devices with an internal combustion engine would not qualify under the proposed definition because they weigh more than 150 pounds. Even the lightest versions, such as golf carts and mopeds, weigh at least 200 pounds and some can weigh more than 1,000 pounds.¹³ Although most devices with internal combustion engines would be excluded from the definition due to weight, the proposed rule would exclude all such devices from the definition due to their potential to cause adverse impacts to resources, including wildlife, caused by engine noise and exhaust.¹⁴

¹³ Sandt, L. (October 2019). The basics of micromobility and related motorized devices for personal transport. Pedestrian and Bicycle Information Center: Chapel Hill, NC.

¹⁴ See Glen Canyon National Recreation Area Off-road Vehicle Management Plan/Final Environmental Impact Statement, Chapter 3: Affected Environment, January 2017.

Under the proposed definition, powered micromobility devices would have a weight limit but no size limit. This would give superintendents the flexibility to allow larger than normal powered micromobility devices in locations that can accommodate their use. Neither would the proposed definition limit powered micromobility devices by maximum capable speed. The proposed rule would state that the regulations in 36 CFR 4.21 apply to the use of powered micromobility devices. These regulations set baseline speed limits on roads and apply to motor vehicles, traditional bicycles, and electric bicycles, but also give the superintendent the discretion to designate different speed limits if the baseline limits are unreasonable, unsafe, or inconsistent with the purposes of the System unit. Under the proposed rule, superintendents also would have the authority to establish speed limits for powered micromobility devices off roads that are suitable for each designated location as a condition of use.

The NPS believes that defining powered micromobility devices by weight and engine type is sufficient because these characteristics are strongly correlated to potential for the device to cause impacts to resources and visitors. Weight and speed are the primary factors that determine the amount of kinetic energy transferred in a collision, which correlates to the severity of injuries caused by the collision; ¹⁵ and internal combustion engines produce engine noise and exhaust that have the potential to cause adverse impacts to resources, including wildlife.

¹⁵ Kumfer, et al. Speed, Kinetic Energy, and the Safe Systems Approach to Safer Roadways, ITE Journal, April 2019.

The proposed rule would prohibit the use of powered micromobility devices in System units except in designated locations. The proposed rule would require the NPS to complete notice and comment rulemaking to allow powered micromobility devices on natural terrain that is unimproved by artificial materials. Examples of natural terrain are sand, snow, rock, vegetation, and soil, and include natural terrain that has been designed, constructed or designated for other types of visitor use (e.g., hiking, bicycling, equestrian, ORV use) but remains natural because artificial materials that have been processed by humans, such as paving or gravel, have not been added to the surface. This rulemaking requirement is consistent with Executive Orders 11644 and 11989 that require federal agencies to issue regulations to manage the use of motorized vehicles designed for or capable of cross-country travel on or over natural terrain. This requirement will help ensure that the use of powered micromobility devices in System units will not create unacceptable impacts to soils, watershed, vegetation, wildlife, or other park resources; or create unacceptable visitor use conflicts or safety concerns.

Other locations, such as park roads, parking areas, administrative roads, and paved and gravel sidewalks and paths, could be designated by the superintendent pursuant to the requirements in 36 CFR 1.5 and 1.7. These requirements apply to discretionary actions taken by superintendents to manage visitor use in System units. Superintendents would be required to prepare a written determination justifying the decision to allow powered micromobility devices in designated locations. Superintendents would be required to provide public notice of such actions, including by listing all designated locations in the superintendent's compendium for the System unit. The superintendent's compendium is a compilation of management actions about visitor use in a System unit that must be made available to the public under 36 CFR 1.7. Superintendents could designate these other locations without notice and comment rulemaking, except that notice and comment rulemaking would be required under 36 CFR 1.5(b) if the designated locations would be highly controversial or otherwise significant using the criteria in paragraph (b).¹⁶

¹⁶ Rulemaking is required for an action “which is of a nature, magnitude and duration that will result in a significant alteration in the public use pattern of the park area, adversely affect the park's natural, aesthetic, scenic or cultural values, require a long-term or significant modification in the resource management objectives of the unit. . . .” 36 CFR 1.5(b).

Except for administrative actions taken by the NPS in limited circumstances, the Wilderness Act prohibits mechanical transport in wilderness areas designated by Congress. 16 U.S.C. 1133(c). Accordingly, the proposed rule would prohibit possessing a powered micromobility device in a wilderness area established by Federal statute, unless otherwise allowed under Federal law. The same prohibition applies to bicycles and electric bicycles under NPS regulations at 36 CFR 4.30. Superintendents would not have the authority to override this prohibition by designating locations in wilderness using the superintendent's compendium.

The proposed rule would authorize the superintendent to establish conditions for the use of powered micromobility devices in designated locations pursuant to the requirements in 36 CFR 1.5 and 1.7. Superintendents could tailor these conditions to the characteristics of the designated locations to minimize impacts to resources and other visitors. For example, superintendents could limit the size of powered micromobility devices on narrow sidewalks or require users to park powered micromobility devices in locations away from sensitive resources or public rights-of-way. As another example, superintendents could limit the speed of powered micromobility devices to help reduce the number of crashes. And as a final example, superintendents could decide that only certain types of micromobility devices (e.g., e-scooters) are allowed in certain locations.

The proposed rule would state that the use of powered micromobility devices is governed by State and local law unless addressed by regulations in the proposed rule or by conditions established by the Superintendent. State and local laws address topics such as time of use, age limits, speed limits, helmets, and driver's license requirements.¹⁷ Adopting non-conflicting State law would promote consistency with rules promulgated by State and local governments for the use of powered micromobility devices in their jurisdictions. At the same time, the NPS would have the authority to preempt State or local laws in order to maintain responsibility for the management of System units in accordance with Federal laws and policies.

¹⁷ Blickstein, S. et al. (December 2019). E-Scooter Programs: Current State of Practice in US Cities.

The proposed rule would state that the use of powered micromobility devices is subject to certain existing regulations that apply to the use of bicycles and electric bicycles. These regulations appear in §§ 4.12 (Traffic control devices), 4.13 (Obstructing traffic), 4.20 (Right of way), 4.21 (Speed limits), 4.22 (Unsafe operation), 4.23 (Operating under the influence of alcohol or drugs), and 4.30(h)(3) through (5) (Operating during periods of low visibility, abreast of another bicycle, and with an open container of alcohol).

Finally, the proposed rule would define the term “coasting device” and revise 36 CFR 2.20 to clarify that the regulations in section 2.20 apply to roller skates, skateboards, roller skis, scooters, or similar wheeled devices that are propelled solely by human power, except a bicycle. This would eliminate any potential for confusion about whether powered micromobility devices are subject to the regulations in § 2.20.

Compliance With Other Laws, Executive Orders and Department Policy

Regulatory Planning and Review (Executive Orders 12866 and 13563 and 14094)

Executive Order (E.O.) 14094 amends E.O. 12866 and reaffirms the principles of E.O. 12866 and E.O 13563 and states that regulatory analysis should facilitate agency efforts to develop regulations that serve the public interest, advance statutory objectives, and are consistent with E.O. 12866 and E.O. 13563. Regulatory analysis, as practicable and appropriate, shall recognize distributive impacts and equity, to the extent permitted by law. E.O. 13563 emphasizes further that regulations must be based on the best available science and that the rulemaking process must allow for public participation and an open exchange of ideas. The NPS has developed this proposed rule in a manner consistent with these requirements.

E.O. 12866, as reaffirmed by E.O. 13563 and amended and reaffirmed by E.O. 14094, provides that the Office of Information and Regulatory Affairs (OIRA) in the Office of Management and Budget (OMB) will review all significant rules. OIRA determined that this proposed rule is not significant.

Regulatory Flexibility Act (5 U.S.C. 601 et seq.)

This proposed rule would not have a significant economic effect on a substantial number of small entities under the Regulatory Flexibility Act (5 U.S.C. 601 et seq.). This certification is based on information contained in the economic analyses found in the report entitled “Regulatory Analysis of the Powered Micromobility Devices at National Park System Units Proposed Rule.” The report may be viewed in the docket for this rulemaking action by visiting https://www.regulations.gov/ and searching for “RIN 1024-AE79”.

Congressional Review Act

This proposed rule is not a major rule under 5 U.S.C. 804(2). This proposed rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (2 U.S.C. 1501 et seq.)

This proposed rule does not impose an unfunded mandate on State, local, or Tribal governments or the private sector of more than $100 million per year. The proposed rule does not have a significant or unique effect on State, local, or Tribal governments, or the private sector. It addresses public use of lands administered by the NPS and imposes no requirements on other agencies or governments. A statement containing the information required by the Unfunded Mandates Reform Act (2 U.S.C. 1531 et seq.) is not required.

Takings (E.O. 12630)

This proposed rule does not effect a taking of private property or otherwise have takings implications under E.O. 12630. A takings implication assessment is not required.

Federalism (E.O. 13132)

Under the criteria in section 1 of E.O. 13132, the proposed rule does not have sufficient federalism implications to warrant the preparation of a federalism summary impact statement. This proposed rule only affects the use of federally administered lands. It has no direct effects on other areas. A federalism summary impact statement is not required.

Civil Justice Reform (E.O. 12988)

This proposed rule complies with the requirements of E.O. 12988. This proposed rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175 and Department Policy)

The Department of the Interior strives to strengthen its government-to-government relationship with Indian Tribes through a commitment to consultation with Indian Tribes and recognition of their right to self-governance and Tribal sovereignty. The NPS has evaluated this proposed rule under the criteria in E.O. 13175 and under the Department's Tribal consultation policy and has determined that Tribal consultation is not required because the proposed rule will have no substantial direct effect on federally recognized Indian Tribes.

Paperwork Reduction Act of 1995 (44 U.S.C. 3501 et seq.)

This proposed rule contains no new information collections. All information collections require approval under the Paperwork Reduction Act of 1995 (44 U.S.C. 3501 et seq.). The NPS may not conduct or sponsor, and you are not required to respond to a collection of information, unless it displays a currently valid Office of Management and Budget (OMB) control number.

National Environmental Policy Act of 1969 (NEPA; 42 U.S.C. 4321 et seq.)

This proposed rule does not constitute a major Federal action significantly affecting the quality of the human environment. A detailed statement under the National Environmental Policy Act of 1969 (NEPA) is not required because the proposed rule is covered by a categorical exclusion. The proposed rule does not involve any of the extraordinary circumstances listed in 43 CFR 46.215 that would require further analysis under NEPA. The NPS has determined the proposed rule is categorically excluded under NPS NEPA Handbook section 3.3.D.3 that covers minor changes in regulations pertaining to visitor use activities.

Compared to the existing regulations in 36 CFR 4.10 that apply to motor vehicles (and to powered micromobility devices at present), this proposed rule would make four changes to existing regulations.

First, the proposed rule would allow superintendents to open park roads and parking areas to the use of powered micromobility devices, but only if they designate such locations for the use of powered micromobility devices in the superintendent's compendium. Under the existing regulations that apply to motor vehicles, powered micromobility devices are allowed on park roads and parking areas by default. This administrative change would require superintendents to consider the potential impacts to resources and visitors from allowing powered micromobility devices in these locations.

Second, the proposed rule would allow superintendents to designate paved and artificially improved sidewalks, paths and other locations for the use of powered micromobility devices. Under the existing regulations that apply to motor vehicles, superintendents have no authority to allow powered micromobility devices off roads and parking areas. Off-road locations must be designated through notice-and-comment rulemaking. The impact of this change compared to baseline conditions is reduced by the application of 36 CFR 1.5 to the superintendent's authority to manage powered micromobility devices in the proposed rule. Paragraph (b) of § 1.5 requires certain actions to be published as rulemaking in the Federal Register. To the extent designating paved and artificially improved sidewalks, paths and other locations for the use of powered micromobility devices would trigger this rulemaking requirement, then the procedural result would be the same as baseline conditions which require rulemaking in every case.

Third, powered micromobility devices would be allowed off roads and parking areas in any System unit, either by designation in the superintendent's compendium (for artificially improved locations that do not meet the criteria for rulemaking in 36 CFR 1.5(b)) or through notice-and-comment rulemaking (for other locations). Under the existing regulations that apply to motor vehicles, powered micromobility devices may only be allowed off roads and parking areas in certain System units (national recreation areas, national seashores, national lakeshores and national preserves).

The NPS considers the cumulative effect of these changes to be minor because they would affect how the NPS manages a relatively small subset of “motor vehicles” in portions of System units where powered micromobility devices are present. In addition, according to the regulatory analysis report conducted by Industrial Economics (see the section entitled “Regulatory Flexibility Act” above), all surveyed superintendents at System units where powered micromobility devices are currently being used, indicated their intention to update the superintendent's compendium to allow for continued powered micromobility device use, resulting in very little on the ground change compared to current conditions In addition to the fact that the changes are minor, decisions made under this proposed rule to allow powered micromobility devices within System units will be subject to compliance with NEPA at that time.

The fourth change to existing regulations would define coasting devices for clarity and result in no changes to visitor use under existing regulations.

Effects on the Energy Supply (E.O. 13211)

This proposed rule is not a significant energy action under the definition in E.O. 13211; the proposed rule is not likely to have a significant adverse effect on the supply, distribution, or use of energy, and the proposed rule has not otherwise been designated by the Administrator of Office of Information and Regulatory Affairs as a significant energy action. A statement of energy effects is not required.

Clarity of This Proposed Rule

The NPS is required by E.O.s 12866 (section 1(b)(12)) and 12988 (section 3(b)(1)(B)), and 13563 (section 1(a)), and by the Presidential memorandum of June 1, 1998, to write all rules in plain language. This means that each rule the NPS publishes must:

(a) Be logically organized;

(b) Use the active voice to address readers directly;

(c) Use common, everyday words and clear language rather than jargon;

(d) Be divided into short sections and sentences; and

(e) Use lists and tables wherever possible.

If you feel that the NPS has not met these requirements, send comments by one of the methods listed in the ADDRESSES section. To better help the NPS revise the proposed rule, your comments should be as specific as possible. For example, you should identify the numbers of the sections or paragraphs that you find unclear, which sections or sentences are too long, the sections where you feel lists or tables would be useful, etc.

Public Participation

It is the policy of the Department of the Interior, whenever practicable, to afford the public an opportunity to participate in the rulemaking process. Accordingly, interested persons may submit written comments regarding this proposed rule by one of the methods listed in the ADDRESSES section of this document.

Public Availability of Comments

Before including your address, phone number, email address, or other personal identifying information in your comment, you should be aware that your entire comment—including your personal identifying information—may be made publicly available at any time.

List of Subjects

36 CFR Part 1

National parks, Penalties, Reporting and recordkeeping requirements, Signs and symbols.

36 CFR Part 2

Environmental protection, National parks, Reporting and recordkeeping requirements.

36 CFR Part 4

National Parks, Traffic regulations.

In consideration of the foregoing, the National Park Service proposes to amend 36 CFR parts 1, 2, and 4 as set forth below:

PART 1—GENERAL PROVISIONS

1. The authority citation for part 1 continues to read as follows:

Authority: 54 U.S.C. 100101, 100751, 320102.

2. Amend § 1.4 in paragraph (a) by:

a. Adding, in alphabetical order, the definition for “Coasting device”;

b. Revising the definition for “Motor vehicle”;

c. Adding, in alphabetical order, the definition for “Powered micromobility device”.

The additions and revision read as follows:

§ 1.4 What terms do I need to know?

(a) * * *

Coasting devices means roller skates, skateboards, roller skis, scooters, or similar wheeled devices that are propelled solely by human power, except a bicycle.

* * * * *

Motor vehicle means every vehicle that is self-propelled and every vehicle that is propelled by electric power, but not operated on rails or water, except an electric bicycle, a snowmobile, a powered micromobility device, and a motorized wheelchair.

* * * * *

Powered micromobility device means a human-operated, self-propelled device with a curb weight of less than 150 pounds and without an internal combustion engine. This definition does not include an electric bicycle, motorized wheelchair, snowmobile, vessel, motor vehicle, or coasting device.

* * * * *

PART 2—RESOURCE PROTECTION, PUBLIC USE AND RECREATION

3. The authority citation for part 2 continues to read as follows:

Authority: 54 U.S.C. 100101, 100751, 320102.

4. Revise § 2.20 to read as follows:

§ 2.20 Skating, skateboards, and similar devices.

Using coasting devices is prohibited, except in designated areas.

PART 4—VEHICLES AND TRAFFIC SAFETY

5. The authority citation for part 4 continues to read as follows:

Authority: 5 4 U.S.C. 100101, 100751, 320102.

6. Add § 4.32 to read as follows:

§ 4.32 Powered micromobility devices.

(a) Operating a powered micromobility device is prohibited except in designated locations. Locations with a surface that is natural terrain, unimproved by artificial materials such as paving or gravel, must be designated by rulemaking in the Federal Register. Other locations, such as park roads, parking areas, administrative roads, and paved and gravel sidewalks and paths, may be designated by the superintendent pursuant to §§ 1.5 and 1.7 of this chapter.

(b) The superintendent may establish conditions for the use of powered micromobility devices pursuant to §§ 1.5 and 1.7 of this chapter.

(c) Unless addressed by regulations in this section or by conditions established by the Superintendent, the use of powered micromobility devices is governed by State and local law.

(d) A person operating a powered micromobility device is subject to the following sections of this part that apply to bicycles and electric bicycles: §§ 4.12, 4.13, 4.20, 4.21, 4.22, 4.23, and 4.30(h)(3) through (5).

(e) Possessing a powered micromobility device in a wilderness area established by Federal statute is prohibited, unless otherwise allowed by Federal law.

Shannon Estenoz,
Assistant Secretary for Fish and Wildlife and Parks.

[FR Doc. 2024-31578 Filed 1-15-25; 8:45 am]

BILLING CODE 4312-52-P